SECURITIES AND EXCHANGE COMMISSION

Sunshine Act Meetings

TIME AND DATE: Notice is hereby given, pursuant to the provisions of the Government in the Sunshine Act, Public Law 94-409, that the Securities and Exchange Commission will hold an Open Meeting on Friday, October 13, 2023 at 9:30 a.m. (ET).

PLACE: The meeting will be webcast on the Commission's website at www.sec.gov.

STATUS: This meeting will begin at 9:30 a.m. (ET) and will be open to the public via webcast on the Commission's website at www.sec.gov.

MATTERS TO BE CONSIDERED:

1. The Commission will consider whether to adopt a rule under the Securities Exchange Act of 1934 (“Exchange Act”) to increase the transparency and efficiency of the securities lending market.

2. The Commission will consider whether to adopt a rule under the Exchange Act that is designed to provide greater transparency to investors and other market participants by increasing the public availability of short sale-related data and whether to approve a proposed amendment to the national market system plan governing the consolidated audit trail (“CAT”) created pursuant to the Exchange Act to require a CAT reporting firm that is reporting short sales to indicate whether such firm is asserting use of the bona fide market making exception under Rule 203(b) of Regulation SHO.

CONTACT PERSON FOR MORE INFORMATION: For further information and to ascertain what, if any, matters have been added, deleted or postponed, please contact Vanessa A. Countryman from the Office of the Secretary at (202) 551-5400.

(Authority: 5 U.S.C. 552b)

Dated: October 6, 2023.
J. Lynn Taylor,
Assistant Secretary.

[FR Doc. 2023-22619 Filed 10-10-23; 11:15 am]

BILLING CODE 8011-01-P